ENVIRONMENTAL PROTECTION AGENCY

40 CFR Part 300

[FRL-7660-3]

National Oil and Hazardous Substances Pollution Contingency Plan; National Priorities List

AGENCY: Environmental Protection Agency.

ACTION: Notice of deletion for the Florence Land Recontouring Landfill Superfund Site from the National Priorities List.

SUMMARY: The Environmental Protection Agency (EPA) Region II Office announces the deletion of the Florence Land Recontouring Landfill Superfund Site (Site) from the National Priorities List (NPL). Within the NPL, this Site is listed as being located in the Township of Florence. However, portions of the Site are also located in the Townships of Mansfield and Springfield, Burlington County, New Jersey. The NPL constitutes appendix B to the National Oil and Hazardous Substances Pollution Contingency Plan (NCP), 40 CFR part 300, which EPA promulgated pursuant to section 105 of the Comprehensive Environmental Response, Compensation and Liability Act (CERCLA) of 1980, as amended. EPA and the State of New Jersey, through the Department of Environmental Protection (NJDEP), have determined that all appropriate remedial actions have been implemented at the Site and no further fund-financed remedial action is appropriate under CERCLA. Moreover, EPA and NJDEP have determined that the Site poses no significant threat to public health or the environment.

EFFECTIVE DATE: May 13, 2004.

FOR FURTHER INFORMATION CONTACT: Mark Austin, Remedial Project Manager, New Jersey Remediation Branch, Emergency and Remedial Response Division, U.S. Environmental Protection Agency, Region II, 290 Broadway, 19th Floor, New York, New York 10007-1866, phone: (212) 637-3954; fax: (212) 637-4429; e-mail: austin.mark@epa.gov.

SUPPLEMENTARY INFORMATION: To be deleted from the NPL is: The Florence Land Recontouring Landfill Superfund Site, Townships of Florence, Mansfield, and Springfield, Burlington County, New Jersey.

A Notice of Intent to Delete for the Site was published in the Federal Register on February 18, 2004 (69 FR 7613). The closing date for comments on the Notice of Intent to Delete was March 19, 2004. EPA received no comments regarding this action. EPA identifies sites that appear to present a significant risk to public health, welfare, or the environment and it maintains the NPL as the list of those sites. As described in § 300.425(e)(3) of the NCP, any site or portion thereof deleted from the NPL remains eligible for remedial actions in the unlikely event that conditions at the site warrant such action in the future. Deletion of a site from the NPL does not affect responsible party liability or impede agency efforts to recover costs associated with response efforts.

List of Subjects in 40 CFR Part 300

Environmental protection, Air pollution control, Chemicals, Hazardous waste, Hazardous substances, Intergovernmental relations, Penalties, Reporting and recordkeeping requirements, Superfund, Water pollution control, Water supply.

Dated: March 31, 2004.
Jane M. Kenny,
Regional Administrator, Region 2.

For the reasons set out in the preamble, part 300, title 40 of Chapter I of the Code of Federal Regulations, is amended as follows:

PART 300—[AMENDED]

1. The authority citation for part 300 continues to read as follows:

Authority: 42 U.S.C. 9601-9657; 33 U.S.C. 1321(c)(2); E.O. 12777, 56 FR 54757, 3 CFR., 1991 Comp., p. 351; E.O. 12580, 52 FR 2923, 3 CFR, 1987 Comp., p. 193.

Appendix B—[Amended]

2. Table 1 of Appendix B to Part 300 is amended under New Jersey (NJ) by removing the Site name “Florence Land Recontouring Landfill” and the City/County “Florence Township.”

[FR Doc. 04-10891 Filed 5-12-04; 8:45 am]

BILLING CODE 6560-50-P